FEDERAL COMMUNICATIONS COMMISSION

47 CFR Part 90

[PS Docket No. 09-19; RM-11514 and RM-11531; FCC 13-98]

Travelers' Information Stations

AGENCY: Federal Communications Commission.

ACTION: Final rule.

SUMMARY: In this document, the Commission clarifies and amends its rules pertaining to public safety Travelers' Information Stations (TIS), which Public Safety Pool-eligible entities operate to transmit noncommercial, travel-related information over AM band frequencies to motorists on a localized basis. First, the Commission clarifies that permissible content under the TIS rules must continue to have a nexus to travel, an emergency, or an imminent threat of danger. Second, the Commission clarifies that TIS licensees may transmit any communications related directly to the imminent safety-of-life or property, and may transmit emergency communications during a period of emergency in which the normal communication facilities are disrupted as a result of hurricane, flood, earthquake or similar disaster. Third, the Commission partially removes the present restriction on so-called “ribbon” networks of TIS transmitters (i.e., multiple simulcast transmitters), requiring only that simulcast TIS transmissions be relevant to travelers in the vicinity of each transmitter in the network. Finally, the Commission updates the definition of TIS in the rules to replace the reference to the former Local Government Radio Service with a reference to the Public Safety Pool. These rule changes will remove confusion about what type of content is permissible on the TIS, thus improving administrative efficiency for the both the Commission and TIS licensees.

DATES: Effective September 18, 2013.

ADDRESSES: Federal Communications Commission, 445 12th Street SW., Washington, DC 20554.

FOR FURTHER INFORMATION CONTACT: Thomas Eng, Policy and Licensing Division, Public Safety and Homeland Security Bureau, Federal Communications Commission, 445 12th Street SW., Washington, DC 20554, at (202) 418-0019, TTY (202) 418-7233, or via email at Thomas.Eng@fcc.gov.

SUPPLEMENTARY INFORMATION: This is a summary of the Commission's Report and Order in PS Docket No. 09-19; RM-11514 and RM-11531; adopted July 18, 2013 and released on July 23, 2013. The complete text of this document is available for inspection and copying during normal business hours in the FCC Reference Information Center, Portals II, 445 12th Street SW., Room CY-A257, Washington, DC 20554. This document may also be purchased from the Commission's duplicating contractor, Best Copy and Printing, Inc., in person at 445 12th Street SW., Room CY-B402, Washington, DC 20554, via telephone at (202) 488-5300, via facsimile at (202) 488-5563, or via email at FCC@BCPIWEB.com. Alternative formats (computer diskette, large print, audio cassette, and Braille) are available to persons with disabilities or by sending an email to FCC504@fcc.gov or calling the Consumer and Governmental Affairs Bureau at (202) 418-0530, TTY (202) 418-0432. This document is also available on the Commission's Web site at http://www.fcc.gov.

Introduction

Currently, the Commission authorizes Public Safety Pool-eligible entities to use Travelers' Information Stations (TIS) to transmit noncommercial, travel-related information over AM band frequencies to motorists on a localized basis. In this proceeding, we address the scope of permissible operations under our TIS rules in response to petitions filed by Highway Information Systems (HIS), the American Association of Information Radio Operators (AAIRO), and the American Association of State Highway and Transportation Officials (AASHTO). The Commission invited comment on the issues raised in these three petitions in a Notice of Proposed Rulemaking (NPRM) adopted in 2010.

In today's Report and Order, we both clarify and amend our TIS rules in order to promote a more efficient and effective service. First, we clarify that permissible content under the TIS rules must continue to have a nexus to travel, an emergency, or an imminent threat of danger. Second, we amend § 90.242 of our rules, which defines and authorizes TIS, to cross-reference §§ 90.405(a)(1) and 90.407 of the rules, which respectively allow the use of all part 90 facilities, including TIS, for the transmission of “any communications related directly to the imminent safety-of-life or property,” and for emergency communications “during a period of emergency in which the normal communication facilities are disrupted as a result of hurricane, flood, earthquake or similar disaster.” Third, we partially remove the present restriction on so-called “ribbon” networks of TIS transmitters (i.e., multiple simulcast transmitters), requiring only that simulcast TIS transmissions be relevant to travelers in the vicinity of each transmitter in the network. Finally, we update the definition of TIS in § 90.7 to replace the reference to the former Local Government Radio Service with a reference to the Public Safety Pool.

The rule changes in the Report and Order serve either to clarify or to modestly expand the operating parameters of the TIS service. The costs associated with these rule changes are negligible because the changes impose no investment or expenditure requirements on any affected entities to achieve compliance. The rule changes will also remove confusion about what type of content is permissible on the TIS, thus improving administrative efficiency for the both the Commission and TIS licensees. Moreover, by permitting the simulcasting of TIS transmissions, the rule changes will lower licensees' operating costs because licensees will no longer need to create individual TIS transmissions for each transmitter in a network.

Background

The Commission established TIS in 1977 in order to “establish an efficient means of communicating certain kinds of information to travelers over low power radio transmitters licensed to Local Government entities.” The Commission specifically noted that such stations had been used to reduce traffic congestion and to transmit “road conditions, travel restrictions, and weather forecasts to motorists.” Further, the Commission anticipated that TIS also would be used to “transmit travel related emergency messages concerning natural disasters (e.g., forest fires, floods, etc.), traffic accidents and hazards, and related bulletins affecting the immediate welfare of citizens.”

Commercial broadcasters opposed the creation of TIS, claiming that it would duplicate information provided by commercial broadcasts, including “comprehensive weather reports, reports of traffic conditions, names of gasoline stations, restaurants, and lodging conveyed through advertising.” Some broadcasters contended that this would siphon off advertising revenues, while others argued that TIS operations would cause impermissible interference with their operations.

To address these concerns, the Commission prohibited TIS operators from transmitting commercial messages and emphasized that strict limits would be placed on other operational aspects of TIS licenses, including limits on authorized power levels. The Commission also adopted power and transmitter location limitations to ensure that TIS operations typically would be confined to the immediate vicinity of specified, travel-related areas. The Commission imposed the transmitter location restriction with the objective of limiting service to “the traveler in the immediate vicinity of the station.” Although the Commission did not preclude TIS operations from using multiple transmitters, the Commission did not allow multiple TIS transmitters to operate as a network, but instead required each TIS site to provide specifically targeted information restricted to the immediate vicinity of the area served by that site.

The Commission authorizes TIS stations on a primary basis on 530 kHz and on a secondary basis in the 535-1705 kHz band, all of which can be received on a conventional AM radio. TIS stations operate at low power: Maximum output power is 50 watts with a cable antenna and 10 watts with a traditional radiating antenna. TIS stations may only transmit “noncommercial voice information pertaining to traffic and road conditions, traffic hazard and travel advisories, directions, availability of lodging, rest stops and service stations, and descriptions of local points of interest.” Finally, the rule restricts TIS transmitting sites to “the immediate vicinity of . . . [a]ir, train, and bus transportation terminals, public parks and historical sites, bridges, tunnels, and any intersection of a Federal Interstate Highway with any other Interstate, Federal, State, or local highway.”

The Commission has not undertaken a major amendment of the TIS rules since their inception in 1977. However, in an effort to address apparent operational limitations imposed by the current TIS rules, a few TIS operators have acted on their own accord to expand the scope of TIS content and operations. This has resulted in at least one Commission enforcement action. Other TIS operators and their sponsors have sought to expand the scope of TIS operations through rule waiver requests.

On July 16, 2008, HIS filed a petition for rulemaking (HIS Petition) to amend the TIS rules. The HIS Petition requested that the Commission: (1) Re-title TIS as the “Local Government Radio Service;” (2) expand the permissible use rule in § 90.242(a)(7) to “provide that stations in the local government radio service may be used to broadcast information of a non-commercial nature as determined by the government entity licensed to operate the station and other government entities with which the licensee cooperates;” and (3) “eliminate the limitation on the sites for local government radio stations that confines such stations to areas near roads, highways and public transportation terminals.”

On September 9, 2008, AAIRO filed a petition for declaratory ruling (AAIRO Petition). The AAIRO Petition asked for (1) a “[r]uling that any message concerning the safety of life or protection of property that may affect any traveler or any individual in transit or soon to be in transit, may be transmitted on Travelers' Information Stations, at the sole discretion of officials authorized to operate such stations;” and (2) “a clear directive that such messages, by definition, are expressly included in the permissible content categories defined by 47 CFR 90.242(a)(7).” In its petition, AAIRO stated that such a declaration would allow the broadcast of a wide range of information over TIS, including National Oceanic and Atmospheric Administration (NOAA) Weather Radio retransmissions, AMBER Alerts, alternate phone numbers when local 911 systems fail, terror threat alert levels, public health warnings “and all manner of civil defense announcements.” AAIRO, however, did not seek any expansion of TIS operational limitations currently imposed by the Commission's rules.

On March 16, 2009, AASHTO filed a petition for rulemaking seeking revision of the TIS rules to permit the transmission of AMBER Alerts and information regarding the availability of 511 traffic and transportation information services.

On February 13, 2009, the Public Safety and Homeland Security Bureau (Bureau) released a public notice seeking comment on the HIS and AAIRO Petitions, and received 61 comments. On April 23, 2009, the Bureau released a public notice seeking comment on the AASHTO Petition, and received 11 comments.

On December 30, 2010, the Commission released its Notice of Proposed Rulemaking in this proceeding consolidating the substantive and operational issues raised in the three petitions and related records. The NPRM received ten comments and 28 reply comments (five late-filed). On December 18, 2012 and December 28, 2012, AAIRO made supplemental ex parte filings, which included further correspondence in support of its petition from public safety entities and others.

Report and Order

We now consider the record in this proceeding with respect to two major categories: (1) What constitutes permissible information that may be transmitted over TIS stations, and (2) what geographic and operational limitations apply to TIS.

Permissible TIS Content

The NPRM sought comment on a variety of issues related to expansion of permissible TIS content. It asked whether the Commission should expand the scope of the TIS rules to allow a broader array of government information and alerts; whether the Commission should identify specific services, such as AMBER Alerts and NOAA weather broadcasts, as permissible under the TIS services rules; what limits, if any, the Commission should place on information allowed to be transmitted over TIS; and whether expansion of the TIS rules as proposed by HIS, AAIRO, and AASHTO would have any adverse effect on commercial broadcasting. The NPRM also sought specific comment on whether continuing to require a traveler-related nexus served the public interest; and if the travel-related nexus were retained, the extent, if any, to which the type of information broadcast over the TIS service might be broadened without “diluting” the value of the service to travelers. The NPRM also sought comment on AASHTO's position and the distinction it made between the rebroadcast over TIS of routine versus non-routine NOAA weather reports. Finally, the NPRM sought comment on whether the name of the service should be changed.

As a threshold matter, we note that the current TIS rules already permit transmission of much of the information cited by AAIRO and other commenters. § 90.242 expressly allows TIS transmission of, inter alia, “noncommercial voice information pertaining to traffic and road conditions, traffic hazards and travel advisories, directions [and] rest stops.” Thus, under this provision of the rule, TIS operators may transmit weather alerts regarding difficult or hazardous conditions (whether or not “tone alerted”), as well as information regarding motor vehicle crashes, emergency points of assembly, road closures and construction, parking, current driving travel times, air flight status, truck weigh stations, driver rest areas, locations of truck services, and road closures.

511 Service. The NPRM sought comment on AASHTO's request to allow TIS stations to provide information about the availability of 511 service. All commenters support this request, although San Francisco opposes as duplicative allowing TIS stations to repeat the same information that is available on 511. AAIRO, however, advises that “TIS and 5-1-1 systems can co-exist and complement each other.” We agree with AAIRO and therefore clarify that information on the availability of 511 service is already allowed under our TIS rules, because such information directly relates to the provision of travel-related information.

Non-Commercial Content. In its petition, HIS asked the Commission to revise the TIS rules to allow the broadcast of any non-commercial content. Although this proposal garnered some support in the initial comment cycle related to the HIS Petition, most NPRM commenters oppose the proposal, reasoning that allowing TIS to broadcast any type of non-commercial content would dilute the public safety value of the TIS service. APCO retains a “neutral” position, but remains concerned about dilution of “the emergency purposes of TIS and [the possibility to] potentially confuse travelers accustomed to finding time-sensitive safety and traffic information on TIS.” We agree with the majority of commenters who believe that TIS should retain its historical focus on serving the needs of the traveling public. The record indicates that such a dedicated service continues to serve the public interest in that it contributes both to public safety and convenience. Accordingly we decline to implement this change to the TIS content rules.

Non-Travel Related Emergency and Imminent Threat Information. In the NPRM, the Commission sought comment on whether TIS stations should be allowed to transmit emergency information and information related to imminent threats to safety and property, even if such information is not directly travel-related. Most commenters support allowing TIS to transmit emergency and imminent threat information, e.g., AMBER and Silver Alerts. Several commenters note that TIS serves as a platform of last resort with regard to the broadcast of emergency information. For example, during Hurricane Sandy, the town of North Plainfield, New Jersey's TIS transmitter made it possible for the town to provide updates of local emergency information both at the height of the storm and throughout the power outage that followed. However, AASHTO contends that transmission of such information by TIS stations is already permitted under rules that allow all part 90 licensees, including TIS operators, to transmit emergency information.”

We agree with AASHTO that TIS broadcasting of emergency information and information related to imminent threats to safety and property, whether travel-related or not, is already allowed under our part 90 rules. § 90.405(a)(1) allows all part 90 licensees, which includes TIS licensees, to transmit “any communications related directly to the imminent safety-of-life or property.” For example, this allows use of TIS for AMBER and Silver Alerts, as well as transmission of information about other imminent threats. Similarly, § 90.407 allows part 90 licensees to transmit emergency communications “during a period of emergency in which the normal communication facilities are disrupted as a result of hurricane, flood, earthquake or similar disaster.” In an emergency context, this clearly could include transmission by TIS stations of information regarding evacuation routes and the location of shelters, health care, and other emergency facilities. To further clarify that TIS transmitters may be used to transmit non-travel related emergency information in accordance with those rules, we add the following sentence at the end of § 90.242(a)(7): “Travelers Information Stations may also transmit information in accordance with the provisions of §§ 90.405(a)(1) and 90.407.”

Non-Emergency Non-Travel-Related Public Health and Safety Information. A number of commenters propose allowing TIS operators to transmit “public health” and/or “public safety” messages even if they do not have a travel-related nexus, are not emergency-related, or do not relate directly to an imminent threat. NAB, on the other hand, opposes TIS broadcast of “routine, non-emergency information” and argues that TIS operators should be limited to providing information that will promote “situational awareness.” NPR endorses the broadcast of “highly localized travel- and public safety-related information that is largely unavailable elsewhere” but supports “maintaining the existing travel and public safety nexus.” AASHTO similarly states there is no need for TIS to transmit any non-commercial information beyond “non-routine information that may uniquely affect [travelers] as they travel through an area.” SHA agrees that any expansion should be “limited to travel-related messages.” San Francisco takes the most restrictive view, stating that “TIS should be confined to emergency alerts only, especially in areas without cellular coverage.”

Commenters differ on whether TIS stations should be allowed to broadcast weather information originated by NOAA. While no commenter disputes that TIS may broadcast emergency NOAA weather announcements, AAIRO contends that TIS rules should also allow broadcast of “routine, detailed weather announcements.” AAIRO reasons that “only a fraction of the population” has NOAA weather receivers, that routine NOAA weather broadcasts give information about road surface conditions, and that extended forecasts help travelers to plan their routes. AAIRO also states that “NOAA Radio `All-Hazard' information . . . provide[s] pertinent lifesaving information to travelers.” AAIRO contends that broadcast of routine NOAA weather information would not “dilute TIS content or prove superfluous to its mission.” AAIRO considers it “likely that NOAA broadcasts will be excerpted by TIS, not run in their entirety, thus not replicating all NOAA content or duplicating broadcast news reports. Many other commenters support this proposal

AASHTO, on the other hand, argues that other options exist for accessing routine NOAA weather information and that “TIS transmissions should continue to be reserved for location and time-limited weather related and other emergency information.” AASHTO suggests that “expansion of information beyond this basic core will dilute the value of TIS transmissions and travelers will be dissuaded from tuning to TIS transmissions unless they know that important emergency information is being transmitted.” Several other commenters agree. Gropper notes that “[t]ravelers now have many sources of up to the minute weather and traffic information beyond traditional AM and FM broadcast sources, including cell phone, mobile internet, automobile based information systems, and satellite radio. Therefore, due to technological advances, TIS is no longer the primary alternative to AM/FM broadcasts for this information.” Nevertheless, Gropper supports integrating NOAA Weather Radio into TIS, short of continuous rebroadcast, arguing that this will allow for full automation of such broadcasts during an emergency and that not all information regarding dangerous weather conditions is “tone alerted” (e.g. severe weather statements, dense fog and snow advisories).

We find that expanding the TIS rules to allow the transmission of non-emergency, non-travel-related information would dilute the effectiveness of TIS in assisting travelers and providing geographically focused emergency information. Routine weather information is widely available on commercial radio stations and increasingly available over cell phone, mobile internet, automobile based information systems, and satellite radio. While motorists should not access weather information from cell phones and the mobile internet while driving, they may safely do so through the other foregoing means. By limiting TIS weather information to potentially hazardous conditions, drivers and other travelers will know immediately that they are receiving non-routine weather information that could negatively impact driving conditions. Moreover, prohibiting the routine retransmission of NOAA weather radio broadcasts does not thereby prohibit the “integration” of NOAA weather radio or NOAA radio all-hazards information into TIS during times of hazardous or potentially hazardous conditions. TIS stations may transmit NOAA broadcasts, whether “tone alerted” or not, so long as they relate to an existing or potential hazard. Similarly, we find that allowing routine TIS broadcast during non-emergency periods of terrorist threat levels, public health alerts, emergency preparedness messages, conservation messages, and the like, is not in the public interest, as such routine broadcasts also would dilute situational awareness pertinent to the traveling motorist. The primary purpose of the TIS is to assist motorists in the process of traveling and to provide emergency and imminent threat information in covered areas. Therefore, we will continue to disallow messages that do not have a travel nexus, are not emergency-related, or do not relate directly to an imminent threat because such messages would dilute the convenience and efficacy of TIS.

Determination of what constitutes allowable information. Beyond the issue of defining the allowable scope of TIS content, commenters also express divergent views on who should determine whether any particular content complies with the applicable definition. Some commenters argue for detailed rule-based definitions of what is permissible. AASHTO argues that “TIS licensees would be better served with rule-based criteria that specify the information that may be transmitted over TIS facilities and the mechanism by which a TIS operator may determine when the transmission of emergency information should begin and end.” AASHTO suggests allowable emergency information is that which is “officially recognized by the Federal government.” SHA agrees that there should be “nationwide consistency” in messaging in order to meet “the expectations of the traveling public.” However, SHA suggests that 47 CFR 90.405(a)(1) and 90.407 “provide sufficient guidance related to the broadcast of routine and non-routine information during emergency situations.”

Other commenters argue for giving discretion to TIS licensees to determine what is and is not permissible under the applicable rules. AAIRO suggests that the Commission “defer to TIS operators on a general basis” on which content to air. Similarly, Gropper advises the Commission to “not choose the permitted content on TIS, but instead . . . set broad areas of permitted activities and leave it to the licensees to implement the FCC's policy.” George states that local governments are best “qualified to make the decision on what information should be distributed.” Auburn similarly states that TIS operators should be allowed to use TIS “regardless of the exact nature of the life safety message that we choose to broadcast.” AAIRO states that the Commission must achieve a balance between “too strict definitional criteria [which] would be impractical,” and sufficient clarity “to avoid the chilling effect of uncertainty in the current rule.”

We are persuaded by those commenters that argue that the part 90 rules should allow for discretion on the part of TIS licensees regarding use of the TIS service. Given their intimate knowledge of local conditions and considering the limited area of operation of TIS base stations, TIS licensees are in the best position to determine what constitutes an “imminent [threat to] safety-of-life or property,” as well as when emergency conditions reach the level of a “hurricane, flood, earthquake or similar disaster.” Again, permissible use of the TIS in such conditions could include the transmission of evacuation routes and the location of shelters, health care and other emergency facilities, as well as weather or other conditions that may negatively impact driving conditions. These clarifications are consistent with the Commission's longstanding recognition of the public interest in ensuring that TIS stations timely inform traveling motorists about emergency events and situations that may have a bearing on the immediate welfare and safety of the public. Nevertheless, we also emphasize that local authorities only have discretion within the scope of the part 90 rules, and that with that discretion comes responsibility for compliance. The discretion afforded to local authorities therefore does not in any way limit our authority to take enforcement action to the extent a TIS station operates in violation of this Report and Order or the part 90 rules.

Service Name Change. Commenters are divided on whether to adopt a new name for TIS. AASHTO suggests changing the name to “Highway Advisory Service.” Gropper suggests “Transportation and Government Information AM Radio Service,” which he contends would “reflect the new potential scope of the service.” Snyder supports a name change along with the lifting of restrictions to use by government agencies only. SHA opposes the name “Local Government Radio Service,” proposed in the HIS Petition, on the grounds that many TIS operators are not local government organizations and that such a name change could promote broadcasting of information “already covered by commercial radio stations.” AAIRO opposes a name change as it does not favor changing the fundamental nature of the service.

We will retain the present name of the service. Given our determination above that the primary purpose of TIS is to assist motorists in the process of traveling and to provide emergency and imminent threat information in covered areas, we see no reason to adopt a new service name.

We also take this opportunity to update the definition of TIS in § 90.7 by replacing the reference to the former Local Government Radio Service with a reference to the Public Safety Pool. This change recognizes that the Local Governmental Radio Service is an anachronism (since that Service was folded into the Public Safety Pool) and conforms the definition of TIS to the relevant substantive authorizing rules, which assign to the Public Safety Pool the operation of TIS. While we did not specifically request comment on updating the definition of TIS, under section 553(b)(B) of the Administrative Procedure Act, 5 U.S.C. 553(b)(B), notice and comment procedures do not apply “when the agency for good cause finds (and incorporates the finding and a brief statement for reasons therefore in the rules issued) that notice and public procedures thereon are . . . unnecessary.” The “unnecessary” exception to the notice requirement is “confined to those situations in which the administrative rule is a routine determination, insignificant in nature and impact, and inconsequential to the industry and to the public.” “`Unnecessary' refers to the issuance of a minor rule or amendment in which the public is not particularly interested.” We find that updating the definition of “Travelers' information station” in § 90.7 meets the requirements for the good cause exception because notice and comment are “unnecessary” in these respects; the amendment of the rule defining TIS constitutes an editorial change that simply reflects Commission action taken in 1997. In that action, the Commission eliminated the Local Governmental Radio Service as a stand-alone service by folding it into the broader Public Safety Pool, and extended eligibility for each of the Pool's component services to any entity that had been eligible for any one of those services. Accordingly, since 1997, TIS licenses could be held by any entity eligible for a license within the Public Safety Pool, not just entities that had been eligible for the superseded Local Government Radio Service referenced by the definition of TIS in § 90.7.

Geographic and Operational Limitations

With regard to TIS operational limitations, the NPRM asked a series of technical questions: Whether the § 90.242 interference protection standards adequately protect AM stations; whether the Commission should adopt specific second and third-adjacent channel protection standards to ensure lack of interference to AM stations; to what extent TIS broadcast locations could be expanded without resulting in harmful interference to other licensees; to what extent those changes would be of any practical usefulness given the limitations on power output presently established in the TIS rules; whether those power output limitations would also need to be relaxed in order to provide local governments with any benefits; if power output limitations were relaxed, what rule changes would be necessary to ensure that AM stations are adequately protected; and whether there any other technical rules that would need to be changed.

In general, AAIRO argues that no revision to the technical or siting provisions of the rules is necessary aside from lifting the filtering restriction in § 90.242(b)(8) (discussed in the Further Notice of Proposed Rulemaking below). HIS proposed elimination of all TIS site transmitter locations, but its successor entity, Vaisala, merely states that it supports “more operational flexibility” without requesting specific changes. AASHTO calls for adjustment of “power levels and other technical criteria to improve the service while ensuring that TIS facilities will not cause harmful interference to AM broadcast stations.” Several comments were directed to particular technical issues.

Field Strength. § 90.242(b)(4)(iv) of the Commission's rules specifies that the field strength of TIS stations may “not exceed 2 mV/m when measured with a standard strength meter at a distance of 1.50 km (0.93 miles) from the transmitting antenna system.” The NPRM asked whether the existing TIS field strength limit was necessary to protect AM broadcast stations and other TIS stations from interference when other technical limitations exist in the rules; whether the field strength limit was only needed because of the present requirement to provide specific information to the “immediate vicinity” of areas listed in § 90.242(a)(5); whether this limit would be unnecessary if TIS stations were to be permitted to provide more general information that is applicable to broader areas; what, if the Commission allows TIS stations to serve broader areas, the new field strength limit should be, if any; whether a relaxed field strength limit frustrates the purpose of the Commission's spacing requirements between co-channel TIS stations as set forth in § 90.242(b)(5) of the Commission's rules; and whether additional technical or operational changes would be necessary if the field strength limits were amended.

There was limited comment on these issues. SHA opposes increasing the maximum field strength of TIS, arguing that if it is increased, “risks of interference will be present and the FCC will then have to adopt specific second and third level channel protection standards” necessitating “a research project to determine the effects on AM stations, under a variety of scenarios (power output, spacing, field strength, etc.)” prior to any rule change. We find that the record provides no substantial support for changing the field strength limit. We encourage licensees to continue to work together to resolve interference issues that occur under our existing technical rules. We also note that the Commission may modify a TIS authorization if a legally-operating TIS station causes interference.

Site Location Restrictions. Our rules restrict TIS transmitting sites to “the immediate vicinity of . . . [a]ir, train, and bus transportation terminals, public parks and historical sites, bridges, tunnels, and any intersection of a Federal Interstate Highway with any other Interstate, Federal, State, or local highway.” The NPRM sought comment on HIS's request that we remove these siting restrictions. Gropper supports “[r]elaxed siting of AM transmitters . . . to provide for maximum utilization of the TIS system.” AASHTO, however, suggests only minimal expansion of location requirements, if any, and a reevaluation of appropriate power levels and other technical criteria for TIS stations due to the long passage of time since the regulations were promulgated. Both AAIRO and SHA oppose eliminating site restrictions due to interference concerns. NAB adds that eliminating such restrictions “would delink TIS operations from its intended purpose.”

We believe the record provides insufficient support for any modification of present TIS site restrictions since it does not establish whether elimination or even expansion of these restrictions would lead to harmful interference with non-TIS stations. Accordingly, we find that retaining these restrictions is in the public interest, and thus we leave them in place as well.

Other Rule Changes to Protect Other AM Stations. Pavlica states that in order to protect other AM stations from interference at night, TIS transmitters must “be prepared to change [their] frequency +/− 30 KHz in the event of night time skywave interference reported by the public.” While we appreciate this concern, we encourage licensees to continue to work together to resolve interference issues that occur under our existing technical rules. We note that the Commission may modify a TIS authorization if a legally-operating TIS station causes interference. The Commission will also take enforcement action, as appropriate, where there are violations of the Commission's rules. Accordingly, we do not believe the record indicates the need for further action on our part on this issue at present.

Ribbon Systems. The 1977 TIS Report and Order prohibited “setting up a `network,' or `ribbon' of transmitting stations along a highway for the purpose of continuously attracting a motorist with what could be superfluous information.” In response to a proposal from AASHTO to relax this restriction, the NPRM asked for commenters' views on either (1) allowing ribbon systems but requiring them to transmit unique information applicable to each transmitter's immediate area, or (2) allowing ribboned stations to transmit in a synchronized mode, where all TIS stations transmit the same message in unison. With respect to the latter scenario, the NPRM further asked if synchronized use of ribbon systems could provide benefits that would outweigh the Commission's original intent to prevent use of TIS to transmit superfluous information.

AAIRO supports allowing synchronized ribboning of TIS stations, contending that it would be “useful in alleviating congestion along a route and to manage the flow of traffic during widespread emergencies.” AASHTO says such ribboning would “allow travelers to receive updated information before reaching the location of a traffic condition or other incident.” Several other commenters support lifting the restriction for the same reasons. However, San Francisco opposes ribboning as “duplicative of a 511 service.”

We disagree that ribbon systems are duplicative of 511 service. TIS and 511 systems can coexist and complement each other by providing information about other means of obtaining traffic information. We also find that the public interest lies in allowing simulcast systems of transmitters, which commenters indicate can help to manage traffic flow or provide a means of broadcasting relevant information over complex geographic terrain. Our actions today will also lower operational costs for TIS licensees without diminishing benefits to the traveling public. However, we will permit ribbon systems to be used only for transmission of travel and emergency information that is relevant to travelers in the vicinity of each transmitter in the network. While we leave it to the discretion of the TIS license holders to determine relevancy, licensees should not view this relaxation of the ribboning restriction as carte blanche for the simulcasting of irrelevant content over a large geographic area.

Procedural Matters

Regulatory Flexibility Analysis

As required by the Regulatory Flexibility Act of 1980, see 5 U.S.C. 603, the Commission has prepared a Final Regulatory Flexibility Analysis (FRFA) of the possible significant economic impact on small entities of the policies and rules addressed in this document. The FRFA is set forth in Appendix C of the Report and Order and Further Notice of Proposed Rulemaking. The Commission's Consumer and Governmental Affairs Bureau, Reference Information Center, will send a copy of the Report and Order and Further Notice of Proposed Rulemaking, including this FRFA, to the Chief Counsel for Advocacy of the Small Business Administration (SBA). See 5 U.S.C. 603(a).

Paperwork Reduction Act Analysis

This Report and Order does not contain new or modified information collection requirements subject to the Paperwork Reduction Act of 1995 (PRA), Public Law 104-13. In addition, therefore, the Report and Order does not contain any new or modified information collection burden for small business concerns with fewer than 25 employees, pursuant to the Small Business Paperwork Relief Act of 2002, Public Law 107-198, see 44 U.S.C. 3506(c)(4).

Ordering Clauses

Accordingly, it is ordered that pursuant to sections 4(i) and 303 of the Communications Act of 1934, as amended, 47 U.S.C. 154(i) and 303, that this Report and Order and Further Notice of Proposed Rulemaking is adopted.

It is further ordered that the Commission's Consumer and Governmental Affairs Bureau, Reference Information Center, shall send a copy of this Report and Order and Further Notice of Proposed Rulemaking, including the Initial and Final Regulatory Flexibility Analyses, to the Chief Counsel for Advocacy of the Small Business Administration.

It is further ordered that the Commission shall send a copy of this Report and Order in a report to be sent to Congress and the General Accounting Office pursuant to the Congressional Review Act, see 5 U.S.C. 801(a)(1)(A).

List of Subjects in 47 CFR Part 90

Communications equipment; Radio.

Federal Communications Commission.
Sheryl D. Todd,
Deputy Secretary.

Final Rules

For the reasons discussed in the preamble, the Federal Communications Commission amends 47 CFR part 90 as follows:

PART 90—PRIVATE LAND MOBILE RADIO SERVICES

1. The authority citation for part 90 continues to read as follows:

Authority: Sections 4(i), 11, 303(g), 303(r), and 332(c)(7) of the Communications Act of 1934, as amended, 47 U.S.C. 154(i), 161, 303(g), 303(r), and 332(c)(7) OCC and Title VI of the Middle Class Tax Relief and Jobs Creation Act of 2012, Pub. L. 112-96, 126 Stat. 156.

2. Section 90.7 is amended by revising the definition of “Travelers' information station” to read as follows:

§ 90.7 Definitions.

* * * * *

Travelers' information station. A base station in the Public Safety Pool used to transmit non-commercial, voice information pertaining to traffic and road conditions, traffic hazard and traveler advisories, directions, availability of lodging, rest stops, and service stations, and descriptions of local points of interest.

* * * * *

3. Section 90.242 is amended by revising paragraph (a)(7) to read as follows:

§ 90.242 Travelers' information stations.

(a) * * *

(7) Travelers' Information Stations shall transmit only noncommercial voice information pertaining to traffic and road conditions, traffic hazard and travel advisories, directions, availability of lodging, rest stops and service stations, and descriptions of local points of interest. It is not permissible to identify the commercial name of any business establishment whose service may be available within or outside the coverage area of a Travelers' Information Station. However, to facilitate announcements concerning departures/arrivals and parking areas at air, train, and bus terminals, the trade name identification of carriers is permitted. Travelers' Information Stations may also transmit information in accordance with the provisions of §§ 90.405 and 90.407.

* * * * *

[FR Doc. 2013-20000 Filed 8-16-13; 8:45 am]

BILLING CODE 6712-01-P